DEPARTMENT OF ENERGY

Federal Energy Regulatory Commission

[Docket No. DI12-8-000]

United Water; Notice of Declaration of Intention and Petition for Relief, and Soliciting Comments, Protests, and/or Motions To Intervene

Take notice that the following application has been filed with the Commission and is available for public inspection:

a. Application Type: Declaration of Intention.

b. Docket No: DI12-8-000.

c. Date Filed: June 11, 2012.

d. Applicant: United Water.

e. Name of Project: Arlington Wastewater Plant Demonstration Project.

f. Location: The proposed Arlington Wastewater Plant Demonstration Project will be located in the effluent outfall pipe of the Arlington Wastewater Plant, in the Town of Poughkeepsie, Dutchess County, New York.

g. Filed Pursuant to: 18 CFR part 24, section 24.1.

h. Applicant Contact: Jeffrey McDonald, PE, Project Director, Fuss & O'Neill, 146 Hartford Road, Manchester, CT 06040; telephone: (860) 646-2469, Ext. 5339; Fax: (860) 533-5143; email: www.jmcdonald@fando.com.

i. FERC Contact: Any questions on this notice should be addressed to Henry Ecton, (202) 502-8768, or Email address: henry.ecton@ferc.gov.

j. Deadline for filing comments, protests, and/or motions: July 27, 2012.

Comments, Motions to Intervene, and Protests may be filed electronically via the Internet. See 18 CFR 385.2001(a)(l)(iii) and the instructions on the Commission's Web site under the “eFiling” link. If unable to be filed electronically, documents may be paper-filed. To paper-file, an original and eight copies should be mailed to: Kimberly D. Bose, Secretary, Federal Energy Regulatory Commission, 888 First Street NE., Washington, DC 20426. For more information on how to submit these types of filings, please go to the Commission's Web site located at http://www.ferc.gov/filing-comments.asp.

Please include the docket number (DI12-8-000) on any comments, protests, and/or motions filed.

k. Description of Project: The proposed Arlington Wastewater Plant Demonstration Project would consist of an experimental 15-kW hydrokinetic turbine generator, designed for use in the pipelines of municipal wastewater treatment facilities, which will be dropped into a 8-foot-long, 6-foot-wide, and 6-foot-deep concrete diversion chamber that is located along the 24-inch-diameter, 421-foot-long outfall pipe from the treatment plant. An outflow pipe from the diversion chamber deposits the treated water into the Hudson River. A 100-foot-long transmission line will connect the proposed project to the sewage treatment plant.

l. Petition for Declaration of Intention: United Water asks that it be allowed, without a license under part I of the Federal Power Act, to deploy, test, and study the type of facilities listed above, and use the power from the test devices to operate miscellaneous ventilation and lighting equipment at the treatment facility. The experimental hydrokinetic turbine generator will be tested for a limited time to determine its durability.

m. Locations of the Application: Copies of this filing are on file with the Commission and are available for public inspection. This filing may be viewed on the Web at http://www.ferc.gov using the “eLibrary” link. Enter the Docket number excluding the last three digits in the docket number field to access the document. You may also register online at http://www.ferc.gov/docs-filing/esubscription.asp to be notified via email of new filings and issuances related to this or other pending projects. For assistance, call 1-866-208-3676 or email FERCOlineSupport@ferc.gov for TTY, call (202) 502-8659. A copy is also available for inspection and reproduction at the address in item (h) above.

n. Individuals desiring to be included on the Commission's mailing list should so indicate by writing to the Secretary of the Commission.

o. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Filing and Service of Responsive Documents—All filings must bear in all capital letters the title “COMMENTS”, “PROTESTS”, AND/OR “MOTIONS TO INTERVENE”, as applicable, and the Docket Number of the particular application to which the filing refers. A copy of any Motion to Intervene must also be served upon each representative of the Applicant specified in the particular application.

q. Agency Comments—Federal, state, and local agencies are invited to file comments on the described application. A copy of the application may be obtained by agencies directly from the Applicant. If an agency does not file comments within the time specified for filing comments, it will be presumed to have no comments. One copy of an agency's comments must also be sent to the Applicant's representatives.

Dated: July 2, 2012.
Kimberly D. Bose,
Secretary.

[FR Doc. 2012-16752 Filed 7-9-12; 8:45 am]

BILLING CODE 6717-01-P